DEPARTMENT OF STATE

[Public Notice 7603]

Notice of Public Meeting

Summary: The U.S. Department of State, Bureau of Oceans and International Environmental and Scientific Affairs (OES), Office of Marine Conservation announces that the Advisory Panel to the U.S. Section of the North Pacific Anadromous Fish Commission will meet on October 6, 2011.

Dates: The meeting will take place via teleconference on October 6th, 2011, from 2 p.m. to 4 p.m. Eastern time.

Meeting Details: The teleconference call-in number is toll-free 1-888-989-7597, passcode 21898, and will have a limited number of lines for members of the public to access from anywhere in the United States. Callers will hear instructions for using the passcode and joining the call after dialing the toll-free number noted. Members of the public wishing to participate in the teleconference must contact the OES officer in charge as noted in the FOR FURTHER INFORMATION CONTACT section below no later than close of business on Tuesday, October 4th, 2011.

For Further Information Contact: John Field, Office of Marine Conservation, OES, Room 2758, U.S. Department of State, 2201 C Street, NW., Washington, DC 20520. Telephone (202) 647-3263, fax (202) 736-7350, e-mail fieldjd@state.gov.

Supplementary Information: In accordance with the requirements of the Federal Advisory Committee Act, notice is given that the Advisory Panel to the U.S. Section of the North Pacific Anadromous Fish Commission (NPAFC) will meet on the date and time noted above.

The panel consists of members from the states of Alaska and Washington who represent the broad range fishing and conservation interests in anadromous and ecologically related species in the North Pacific. Certain members also represent relevant state and regional authorities. The panel was established in 1992 to advise the U.S. Section of the NPAFC on research needs and priorities for anadromous species, such as salmon, and ecologically related species occurring in the high seas of the North Pacific Ocean. The upcoming Panel meeting will focus on two major topics: (1) Review of the agenda for the 2011 annual meeting of the NPAFC (October 24-28; Nanaimo, British Columbia, Canada); and (2) logistics for the U.S. Section at the NPAFC meeting. Background material is available from the point of contact noted above and by visiting http://www.npafc.org.

This announcement will appear in the Federal Register less than 15 days prior to the meeting.

The Department of State finds that there is an exceptional circumstance in that this advisory committee meeting must be held on October 6th in order to adequately prepare for the NPAFC to be convened in Canada beginning October 24th, including the logistics involved in attending the meeting.

Dated: September 23, 2011.
John Field,
Acting Director, Office of Marine Conservation, Department of State.

[FR Doc. 2011-25113 Filed 9-28-11; 8:45 am]

BILLING CODE 4710-09-P